DEPARTMENT OF ENERGY

Federal Energy Regulatory Commission

Combined Notice of Filings #1

February 21, 2007.

Take notice that the Commission received the following electric corporate filings:

Docket Numbers: EC07-38-000.

Applicants: NorthWestern Corporation.

Description: NorthWestern Corporation submits its response to FERC, Staffs February 2, 2007 Request for Additional Information.

Filed Date: 02/20/2007.

Accession Number: 20070220-5082.

Comment Date: 5 p.m. Eastern Time on Friday, March 2, 2007.

Take notice that the Commission received the following electric rate filings:

Docket Numbers: ER99-4102-005.

Applicants: Milford Power Company, LLC.

Description: Milford Power Co, LLC submits a supplement to its 1/31/07, tariff filing.

Filed Date: 02/16/2007.

Accession Number: 20070221-0037.

Comment Date: 5 p.m. Eastern Time on Friday, March 9, 2007.

Docket Numbers: ER00-3251-014.

Applicants: Exelon Generating Company, LLC.

Description: Exelon Generation Company, LLC submits modification to, its Market-Based Tariff, Volume 1 to incorporate the Order, 652 change in status reporting requirement.

Filed Date: 02/09/2007.

Accession Number: 20070216-0242.

Comment Date: 5 p.m. Eastern Time on Friday, March 2, 2007.

Docket Numbers: ER03-1159-002.

Applicants: Hershey Chocolate and Confectionary Corporation.

Description: Hershey Chocolate and Confectionary Corporation submits a, First Triennial Market Power Update Report in support of, continued market based rate authority.

Filed Date: 02/20/2007.

Accession Number: 20070220-5042.

Comment Date: 5 p.m. Eastern Time on Tuesday, March 13, 2007.

Docket Numbers: ER05-406-003.

Applicants: Williams Power Company, Inc.

Description: Williams Power Company, Inc. submits a revised, Amendment To Amended Offer Of Settlement of Williams, Power Co.

Filed Date: 01/19/2007.

Accession Number: 20070119-5085.

Comment Date: 5 p.m. Eastern Time on Wednesday, February 28, 2007.

Docket Numbers: ER06-1218-004.

Applicants: PJM Interconnection, LLC.

Description: PJM Interconnection, L.L.C. submits a Compliance Filing, addressing Commission's mandate in LTTR Order requiring, PJM to file administration rules for Section 7.8 of PJM's, LTTR Proposal.

Filed Date: 02/16/2007.

Accession Number: 20070216-5032.

Comment Date: 5 p.m. Eastern Time on Friday, March 9, 2007.

Docket Numbers: ER07-188-004; ER07-189-004; ER07-190-004; ER07-191-004; ER07-192-002.

Applicants: Duke Energy Carolinas, LLC; Duke Energy Indiana, Inc.; Duke Energy Kentucky, Inc.; Duke Energy Ohio, Inc.; Duke Energy Shared Services, Inc.

Description: Duke Energy Corp on behalf of Duke Energy Carolinas, LLC, et al refiles its Duke Carolinas Service Agreement with, Lockhart Power Co et al.

Filed Date: 02/06/2007.

Accession Number: 20070208-0143.

Comment Date: 5 p.m. Eastern Time on Tuesday, February 27, 2007.

Docket Numbers: ER07-516-000.

Applicants: Morgan Stanley Capital Group, Inc.

Description: Morgan Stanley Capital Group Inc. submits a response to, FERC Staff's request regarding certain bilateral spot, transactions for which it was the seller in the Western, Electricity Coordinating Council region etc.

Filed Date: 01/26/2007.

Accession Number: 20070212-0004.

Comment Date: 5 p.m. Eastern Time on Friday, March 2, 2007.

Take notice that the Commission received the following electric securities filings:

Docket Numbers: ES07-21-000.

Applicants: Entergy Nuclear Palisades, LLC.

Description: Entergy Nuclear Palisades, LLC submits an application for Authorization to Issue Securities.

Filed Date: 02/20/2007.

Accession Number: 20070220-5019.

Comment Date: 5 p.m. Eastern Time on Tuesday, March 13, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E7-3359 Filed 2-26-07; 8:45 am]

BILLING CODE 6717-01-P -